DEPARTMENT OF HEALTH AND HUMAN SERVICES

Administration for Children and Families

Submission for OMB Review; Comment Request

Title: Variations in Implementation of Quality Interventions (VIQI) Project: Data Collection.

OMB No.: New Collection.

Description: The Administration for Children and Families (ACF), Office of Planning, Research and Evaluation (OPRE) proposes to collect information as part of the Variations in Implementation of Quality Interventions (VIQI): Examining the Quality-Child Outcomes Relationship in Child Care and Early Education Project.

The VIQI Project will inform policymakers, practitioners, and stakeholders about effective ways to support the quality and effectiveness of early care and education (ECE) centers for promoting young children's learning and development. In partnership with ECE centers across the United States that serve young children with diverse economic backgrounds, the VIQI Project aims to (1) identify dimensions of quality within ECE settings that are key levers for promoting children's outcomes; (2) inform what levels of quality are necessary to successfully support children's developmental gains; (3) identify drivers that facilitate and inhibit successful implementation of interventions aimed at strengthening quality; and (4) understand how these relations vary across different ECE settings, staff, and children. To achieve these aims, the VIQI Project will include a year-long pilot study that will pilot up to three curricular and professional development models, followed by a year-long impact evaluation and process study that involve testing the effectiveness of two curricular and professional development models that aim to strengthen teacher practices, the quality of classroom processes, and children's outcomes. The study will include up to 189 community-based and Head Start ECE centers spread across seven different metropolitan areas in the United States.

To test the effectiveness of the curricular and professional development models, the VIQI project will consist of a 3- or 4-group experimental design in the pilot study and a 3-group experimental design in the impact evaluation and the process study in which the initial quality and other characteristics of ECE centers are measured. The centers then will be stratified based upon select information collected—by setting type (e.g., Head Start and community-based ECE centers) and initial levels of quality—and randomly assigned to one of the intervention conditions where they will be offered curricular and professional development supports aimed at strengthening the quality of classroom and teacher practices, or to a business-as-usual comparison condition.

In the pilot study, 24 centers in one metropolitan area will participate in the VIQI Project. Information about center and staff characteristics and classroom and teacher practices will be collected (1) to stratify and randomly assign centers; (2) to describe how the different interventions are implemented and are experienced by centers and teachers; and (3) to document the treatment differentials across research conditions. The information will then be used to adjust and to refine the research design and measures that will be used in the impact evaluation and process study.

In the impact evaluation and process study, 165 centers in seven metropolitan areas will participate in the VIQI Project. Information about center and staff characteristics and classroom and teacher practices will be collected (1) to stratify and randomly assign centers; (2) to identify subgroups of interest; (3) to describe how the interventions are implemented and are experienced by centers and teachers; (4) to document the treatment differentials across research conditions; and (5) to assess the impacts of each of the interventions on different dimensions of quality and teacher practices when compared to a business-as-usual comparison condition for the impact evaluation sample and separately for subgroups of interest. In addition, information about the background characteristics of families and children being served in the centers will be collected, as well as measures of children's skills at the beginning and end of the year-long impact evaluation for a subset of children in these centers. This information will also be used (1) to define subgroups of interest defined by family and child characteristics, and (2) to assess the impacts of each of the interventions on children's skills for the full impact evaluation sample and separately for subgroups of interest. Lastly, the information on quality, teacher practices and children's skills will be used in a set of analyses that will rigorously examine the nature of the quality-to-child outcomes relationship by exploring the effects of different dimensions and thresholds (or levels) of quality on child outcomes for the full impact evaluation sample and separately for subgroups of interest.

The data collection instruments for the VIQI Project include the following:

(1) Instruments for Screening and Recruitment of ECE Centers will be used in the pilot study, impact evaluation, and process study to assess ECE centers' eligibility, to inform the sampling strategy, and to recruit ECE centers to participate in the VIQI Project;

(2) Baseline Instruments for the Pilot Study, Impact Evaluation, and Process Study will be used to collect background information about centers, classrooms, center staff, and families and children being served in the centers. All of the instruments will be administered at the beginning of the pilot study, impact evaluation, and process study, with the exception of the baseline survey administered to parents of children enrolled in participating ECE centers and the protocol for baseline assessments of children's skills at the beginning of the impact evaluation and process study;

(3) Follow-Up Instruments for the Pilot Study, Impact Evaluation, and Process Study will be used to inform how centers, classrooms, teachers, and children changed and to assess the impacts of each of the interventions over the course of the pilot study, impact evaluation, and process study. All of the instruments will be administered at the end of the pilot study, impact evaluation, and process study, with the exception of the protocol for follow-up assessments of children's skills at the end of the impact evaluation and process study; and,

(4) Fidelity of Implementation Instruments for Pilot Study and Process Study will be used to document how the curricular and professional development models are delivered and experienced by staff, to document treatment differentials across research conditions, and to provide context for interpreting the findings of the impact evaluation.

Respondents: The target population of the VIQI Project will include staff members working in Head Start grantee and community-based child care oversight agencies, staff members working in 189 ECE centers in seven metropolitan areas across the United States, and parents and children being served in these centers.

Annual Burden Estimates
Instrument | Total number of respondents | Annual number of respondents | Number of responses per respondent | Average burden hours per response | Annual burden hours
Instruments for Screening and Recruitment of ECE Centers
Landscaping protocol with Stakeholder Agencies (staff burden in Head Start (HS) grantee and community-based child care agencies) | 100 | 33 | 1 | 1.50 | 50
Screening protocol for phone calls (staff burden in HS grantees and community-based child care agencies) | 110 | 37 | 1 | 2 | 74
Screening protocol for phone calls (HS and community-based child care center staff burden) | 280 | 93 | 1 | 1.20 | 112
Protocol for in-person visits for screening and recruitment activities (staff burden in HS grantees and community-based child care agencies) | 488 | 163 | 1 | 1.50 | 245
Protocol for in-person visits for screening and recruitment activities (HS and community-based child care center staff burden) | 760 | 253 | 1 | 1.20 | 304
Baseline Instruments for the Pilot Study, Impact Evaluation, and Process Study
Baseline administrator survey | 236 | 79 | 1 | 0.60 | 47
Baseline coach survey | 223 | 74 | 1 | 0.60 | 44
Baseline teacher/assistant teacher survey | 1,358 | 453 | 1 | 0.60 | 272
Baseline parent/guardian information form in Impact Evaluation only | 8,568 | 2,856 | 1 | 0.20 | 571
Baseline classroom observation protocol (teacher burden) | 543 | 181 | 1 | 0.30 | 54
Baseline protocol for child assessments in Impact Evaluation only (child burden) | 1,980 | 660 | 1 | 0.50 | 330
Follow-Up Instruments for Pilot Study, Impact Evaluation, and Process Study
Follow-up administrator survey | 189 | 63 | 1 | 0.50 | 32
Follow-up coach survey | 178 | 59 | 1 | 0.50 | 30
Follow-up teacher/assistant teacher survey | 1,086 | 362 | 1 | 0.75 | 272
Teacher reports to questions about children in classroom (administered as part of the follow-up teacher survey) | 543 | 181 | 1 | 0.67 | 121
Follow-up classroom observation protocol (teacher burden) | 543 | 181 | 2 | 0.30 | 109
Follow-up protocol for child assessments in Impact Evaluation only (child burden) | 1,980 | 660 | 1 | 1 | 660
Fidelity of Implementation Instruments for Pilot Study and Process Study
Coach log | 117 | 39 | 55 | 0.25 | 536
Teacher/assistant teacher log | 1,086 | 362 | 36 | 0.25 | 3258
Implementation fidelity observation protocol (teacher burden) | 72 | 24 | 1 | 0.30 | 7
Interview/Focus group protocol (administrator, teacher/assistant teacher and coach burden) | 322 | 107 | 1 | 1.5 | 161

Estimated Total Annual Burden Hours: 7,289.

Additional Information: Copies of the proposed collection may be obtained by writing to the Administration for Children and Families, Office of Planning, Research and Evaluation, 330 C Street, SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-24901 Filed 11-16-17; 8:45 am]

BILLING CODE 4184-23-P